NUCLEAR REGULATORY COMMISSION

[Docket Nos. 50-315 and 50-316]

Indiana Michigan Power Company; Donald C. Cook Nuclear Plant, Units 1 and 2; Environmental Assessment and Finding of No Significant Impact

The U.S. Nuclear Regulatory Commission (NRC) is considering issuance of amendments for Facility Operating License Nos. DPR-58 and DPR-74, issued to Indiana Michigan Power Company (the licensee) for operation of the Donald C. Cook Nuclear Plant (CNP), Units 1 and 2, located in Berrien County, Michigan. Pursuant to Title 10 of the Code of Federal Regulations (10 CFR) Sections 51.21 and 51.32, the NRC is issuing this environmental assessment and finding of no significant impact.

Environmental Assessment

Identification of the Proposed Action

The proposed action would be a full conversion from the current technical specifications (CTS) to a set of improved technical specifications (ITS) based on NUREG-1431, “Standard Technical Specifications, Westinghouse Plants,” Revision 2, dated June 2001. The proposed action is in accordance with the licensee's application dated April 6, 2004, and the information provided to the NRC staff through the joint NRC-Indiana Michigan Power Company CNP ITS Conversion Web page. To expedite its review of the application, the NRC staff issued its requests for additional information (RAIs) through the CNP ITS Conversion Web page and the licensee addressed the RAIs by providing responses on the Web page. Entry into the database is protected so that only the licensee and NRC reviewers can enter information into the database to add RAIs (NRC) or providing responses to the RAIs (licensee); however, the public can enter the database to read the questions asked and the responses provided. Pursuant to 10 CFR 50.4 regarding written communications for license amendment requests, and in order to have the database on the CNP, Units 1 and 2, dockets before the amendments would be issued, the licensee will submit a copy of the database to the NRC after there are no further RAIs. The public can access the database through the NRC Web site at http://www.nrc.gov by the following process: (1) Click on the tab labeled “Nuclear Reactors” on the NRC home page along the upper part of the web page, (2) then click on the link to “Operating Reactors” which is under “Regulated Activities” on the left hand side of the web page, (3) then click on the link to “Standard Technical Specifications” which is on right hand side of the page, and (4) finally click on the link to “Comments on the application and responses by D. C. Cook,” near the bottom of the web page, to open the database. The RAIs and responses to RAIs are organized by ITS Sections 1.0, 2.0, 3.0, 3.1 through 3.9, 4.0, and 5.0, which are listed first, and the beyond scope issues (BSIs) 1 through 35, which are listed later. For every listed ITS section or BSI, there is an RAI which can be read by clicking on the ITS section or BSI number. The licensee's responses are shown by a solid triangle adjacent to the ITS section or BSI number. To read the response, click on the triangle. To page down through the ITS sections to the BSIs, click on “next” along the top of the page or on “previous” to return to the previous page.

The Need for the Proposed Action

The Commission's “Proposed Policy Statement on Technical Specifications Improvements for Nuclear Power Reactors” (52 FR 3788), dated February 6, 1987, contained an Interim Policy Statement that set forth objective criteria for determining which regulatory requirements and operating restrictions should be included in the technical specifications (TS). When it issued the Interim Policy Statement, the Commission also requested comments on it. Subsequently, to implement the Interim Policy Statement, each reactor vendor owners group and the NRC staff began developing standard TS (STS) for reactors supplied by each vendor. The Commission then published its “Final Policy Statement on Technical Specifications Improvements for Nuclear Power Reactors” (58 FR 39132), dated July 22, 1993, in which it addressed comments received on the Interim Policy Statement, and incorporated experience in developing the STS. The Final Policy Statement formed the basis for a revision to 10 CFR 50.36 (60 FR 36953), dated July 19, 1995, that codified the criteria for determining the content of TS. The NRC Committee to Review Generic Requirements reviewed the STS, made note of their safety merits, and indicated its support of conversion by operating plants to the STS. For CNP, Units 1 and 2, NUREG-1431 documents the STS and forms the basis for the CNP, Units 1 and 2, conversion to the ITS.

The proposed changes to the CTS are based on NUREG-1431 and the guidance provided in the Final Policy Statement. The objective of this action is to rewrite, reformat, and streamline the CTS (i.e., to convert the CTS to the ITS). Emphasis was placed on human factors principles to improve clarity and understanding. The ITS Bases section has been significantly expanded to clarify and better explain the purpose and foundation of each specification. In addition to NUREG-1431, portions of the CTS were also used as the basis for the development of the CNP, Units 1 and 2, ITS. The NRC staff discussed plant-specific issues (i.e., unique design features, requirements, and operating practices) with the licensee.

Relocated specifications include those changes to the CTS that relocate certain requirements which do not meet the 10 CFR 50.36 selection criteria. These requirements may be relocated to the Bases section, updated safety analysis report, core operating limits report, operational quality assurance plan, plant procedures, or other licensee-controlled documents. Relocating requirements to licensee-controlled documents does not eliminate them, but rather, places them under more appropriate regulatory controls (i.e., 10 CFR 50.54(a)(3), and 10 CFR 50.59) to manage their implementation and future changes.

The proposed action is necessary to allow the licensee to implement the ITS. The ITS are based on standard Westinghouse Technical Specifications and have been implemented by several utilities. They are considered an improvement over the CTS.

Environmental Impacts of the Proposed Action

The NRC staff has completed its evaluation of the proposed action and concludes that the proposed TS conversion would not increase the probability or consequences of accidents previously analyzed and would not affect facility radiation levels or facility radiological effluents. Specifically, the proposed TS changes will not increase the probability or consequences of accidents. No changes are being made in the types or amounts of any effluent that may be released offsite, and there is no significant increase in the allowable individual or cumulative occupational radiation exposure. Therefore, there are no significant radiological environmental impacts associated with the proposed action.

With regard to potential nonradiological impacts, the proposed action does not have a potential to affect any historic sites because no previously undisturbed area will be affected by the proposed TS changes. It does not affect nonradiological plant effluents and has no other environmental impact. Therefore, there are no significant nonradiological environmental impacts associated with the proposed action.

Accordingly, the NRC concludes that there are no significant environmental impacts associated with the proposed action and, thus, the proposed action will not have any significant impact to the human environment.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in the Final Environmental Statement for the CNP, Units 1 and 2, dated August 1973.

Agencies and Persons Consulted

On November 19, 2004, the staff consulted with Mr. Ken Yale of the Michigan Department of Environmental Quality regarding the environmental impact of the proposed action. The State official agreed with the conclusions of the NRC.

Finding of No Significant Impact

On the basis of the environmental assessment, the NRC concludes that the proposed action will not have a significant effect on the quality of the human environment. Accordingly, the NRC has determined not to prepare an environmental impact statement for the proposed action.

For further details with respect to the proposed action, see the licensee's letter dated April 6, 2004, and the information provided to the NRC staff through the joint NRC-Indiana Michigan Power Company CNP ITS Conversion web page. Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the internet at the NRC Web site, http://www.nrc.gov/reading-rm/adams/”adams.html”. (Note: Public access to ADAMS has been temporarily suspended so that security reviews of publicly available documents may be performed and potentially sensitive information removed. Please check the NRC Web site for updates on the resumption of ADAMS access.) Persons who do not have access to ADAMS or who encounter problems in accessing the documents located in ADAMS, should contact the NRC PDR Reference staff by telephone at 1-800-397-4209 or 301-415-4737, or by e-mail to pdr@nrc.gov.

Dated at Rockville, Maryland, this 14th day of December 2004.
For the Nuclear Regulatory Commission.
Margie Kotzalas,
Acting Chief, Section 1, Project Directorate III, Division of Licensing Project Management, Office of Nuclear Reactor Regulation.

[FR Doc. 04-27845 Filed 12-20-04; 8:45 am]

BILLING CODE 7590-01-P